CORPORATION FOR NATIONAL AND COMMUNITY SERVICE

Information Collection; Submission for OMB Review, Comment Request

AGENCY: Corporation for National and Community Service.

ACTION: Notice.

SUMMARY: The Corporation for National and Community Service (the Corporation), has submitted a public information collection request (ICR) entitled Disaster Response Cooperative Agreement (DRCA) application for review and approval in accordance with the Paperwork Reduction Act of 1995, Public Law 104-13, (44 U.S.C. Chapter 35). Copies of this ICR, with applicable supporting documentation, may be obtained by calling the Corporation for National and Community Service, Kelly DeGraff, at (202) 606-3612 or email to dsu@cns.gov. Individuals who use a telecommunications device for the deaf (TTY-TDD) may call 1-(800) 833-3722 between 8 a.m. and 8 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on October 18, 2011. This comment period ended December 18, 2011. No public comments were received from this Notice.

Description: The Corporation is seeking approval of Disaster Response Cooperative Agreement (DRCA) application which is used by state service commissions and current grantee and sub-grantees of CNCS to engage members and participants in disaster response efforts to federally declared disasters and to be eligible to be reimbursed for expenses occurred while engaged in such efforts. This document describes eligibility criteria, the nature of disaster deployments, the Corporation's expectations for performance upon selection, and the application process. This agreement is the legal instrument by which organizations can be reimbursed by the Corporation for expenses incurred by the response, when it occurs under authority of a Mission Assignment from FEMA or another agency.

Copies of the information collection request can be obtained by contacting the office listed in the addresses section of this notice.

Type of Review: Renewal.

Agency: Corporation for National and Community Service.

Title: Disaster Response Cooperative Agreements.

OMB Number: 3045-0133.

Agency Number: None.

Affected Public: Current grantees and Corporation-supported programs.

Total Respondents: 100.

Frequency: Frequency.

Average Time per Response: 2 hours.

Estimated Total Burden Hours: 200

Total Burden Cost (capital/startup): None.

Total Burden Cost (operating/maintenance): None.

Dated: January 23, 2012.
Kelly DeGraff,
Director, Disaster Services, Senior Advisor, Strategic Plan Disaster Services Focus Area.

[FR Doc. 2012-1806 Filed 1-26-12; 8:45 am]

BILLING CODE 6050-$$-P